DEPARTMENT OF ENERGY

Federal Energy Regulatory Commission

[Docket No. PF07-1-000]

Boardwalk Pipeline Partners, LP; Notice of Intent To Prepare an Environmental Impact Statement for the Proposed Gulf Crossing Project, Request for Comments on Environmental Issues, and Notice of Public Scoping Meetings

April 2, 2007.

The staff of the Federal Energy Regulatory Commission (FERC or Commission) will prepare an environmental impact statement (EIS) that will identify and address the environmental impacts that could result from the construction and operation of the Gulf Crossing Project proposed by Gulf Crossing Pipeline Company, LLC (Gulf Crossing) and Gulf South Pipeline Company, L.P. (Gulf South).

In order to assist staff with the identification of environmental issues and to comply with the requirements of the National Environmental Policy Act of 1969 (NEPA), a thirty-day scoping period has been opened to receive comments on the proposed project. Please note that the scoping period for this project will close on May 4, 2007.

Additionally, as part of the scoping process, we will also hold four public meetings, as described below, to receive comments on the proposed project.

Date and time | Location
April 23, 2007, 7 p.m | Delhi High School Auditorium, 413 Main Street, Delhi, LA 71232.
April 24, 2007, 7 p.m | Serepta High School Auditorium, 6041 Highway 2, Serepta, LA 71071.
April 25, 2007, 7 p.m | Mt. Pleasant Civic Center, 1800 N. Jefferson, Mt. Pleasant, TX 75455.
April 26, 2007, 7 p.m | Bryan County Free Fair, 1901 South 9th Street, Durant, OK 74702.

This notice is being sent to affected landowners; Federal, State, and local government agencies; elected officials; environmental and public interest groups; Native American tribes; other interested parties; and local libraries and newspapers; all of which are encouraged to submit comments on the proposed project. Details on how to submit comments are provided in the Public Participation section of this notice.

If you are a landowner receiving this notice, you may be contacted by a Boardwalk, Gulf Crossing or Gulf South representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Boardwalk, through its subsidiary Gulf Crossing, proposes to construct, own and operate approximately 351 miles of new 42-inch-diameter natural gas transmission pipeline, four (4) new compressor stations, four (4) new metering and regulating (M&R) stations and associated facilities in Grayson, Fannin, Lamar, Red River, Franklin, Titus, Morris, and Cass Counties, Texas; Bryan County, Oklahoma; and Caddo, Bossier, Webster, Claiborne, Lincoln, Union, Ouchida, Morehouse, Richland, and Madison Parishes, Louisiana.

In addition, as part of the Gulf Crossing Project, Boardwalk, through its subsidiary Gulf South, proposed to construct, own and operate a 4.5-mile-long 42-inch-diamter pipeline loop (Loop A) in Madison Parish, Louisiana; and 11.2-mile-long 42-inch-diameter pipeline loop (Loop B) in Hinds, Copiah, and Simpson Counties, Mississippi; as well as installing an additional 30,000 horsepower (hp) of compression at the proposed Harrisville Compressor Station (Docket Number CP07-32-000).

The general location of the proposed pipeline is shown in the figure included as Appendix 1.¹

¹ The appendices referenced in this notice are not being printed in the Federal Register.

Specifically, Boardwalk proposes to construct and operate the following facilities:

• Approximately 351 miles of 42-inch-diameter pipeline beginning in Sherman, Texas; northeast through Bennington, Oklahoma; and southeast to the proposed Gulf South Tallulah Compressor Station near Tallulah, Louisiana;

• Approximately 4.5-mile-long, 42-inch-diameter pipeline loop line west of the Mississippi River in Madison Parish, Louisiana;

• An approximately 11.2-mile-long, 42-inch-diamter pipeline loop line in Hinds, Copiah, and Simpson Counties, Mississippi that terminates at the Gulf South Harrisville Compressor Station (Proposed in Docket number CP07-32-000);

• A new 35,641 hp compressor station at Milepost (MP) 0.0 near Sherman, Texas;

• A new 18,940 hp compressor station at MP 72.7 near Paris, Texas;

• A new 20,604 hp compressor station at MP 183 near Mira, Louisiana;

• A new 25,339 hp compressor station at MP 293 near Sterlington, LA;

• An additional 30,000 hp of compression at Gulf South's proposed Harrisville Compressor Station (docket CP07-32-000)

• Four (4) meter and regulation (M&R) stations to interconnect with Enterprise Texas Pipeline L.P. at MP 0.0 in Grayson County, TX, Enogex intrastate pipeline at MP 34.2 in Bryan County, Oklahoma, Crosstex North Texas Pipeline at MP 72.7 in Lamar County, Texas, and Gulf South at MP 350.7 in Madison Parish, Louisiana;

• 4 pig launching/receiving sites, 3 launching only facilities, 3 receiving only facilities and 17 mainline valves.

Boardwalk proposes to have the project constructed and operational by October 1, 2008.

Land Requirements for Construction

As proposed, the typical construction right-of-way for the project pipeline would be 100-feet wide. Following construction, Gulf Crossing has proposed to retain a 60-foot-wide permanent right-of-way for operation of the project. Additional, temporary extra workspaces beyond the typical construction right-of-way limits may also be required at certain feature crossings (e.g., roads, railroads, wetlands, or waterbodies), in areas with steep side slopes, or in association with special construction techniques. In residential areas, wetlands, and other sensitive areas, the construction right-of-way width would be reduced as necessary to protect homeowners and environmental resources.

Based on preliminary information, construction and operation of the proposed project facilities would affect about 5,650 acres of land. Following construction, about 2,709 acres would be maintained as permanent right-of-way, and about 44.5 acres of land would be maintained as new aboveground facility sites. The remaining 2,896.5 acres of temporary workspace (including all temporary construction rights-of-way, extra workspaces, and pipe storage and contractor yards) would be restored and allowed to revert to its former use.

The EIS Process

The National Environmental Policy Act (NEPA) requires the Commission to take into account the environmental impacts that could result from the approval of an interstate natural gas pipeline. The FERC will use the EIS to consider the environmental impact that could result if the Gulf Crossing project is authorized under section 7 of the Natural Gas Act.

NEPA also requires us to discover and address concerns the public may have about proposals to be considered by the Commission. This process is referred to as “scoping.” The main goal of the scoping process is to focus the analysis in the EIS on the important environmental issues. With this Notice of Intent, the Commission staff is requesting public comments on the scope of the issues to be addressed in the EIS. All comments received will be considered during preparation of the EIS.

In the EIS we will discuss impacts that could occur as a result of the construction and operation of the proposed project under these general headings:

• Geology and soils;

• Water resources;

• Wetlands and vegetation;

• Fish and wildlife;

• Threatened and endangered species;

• Land use, recreation, and visual resources;

• Air quality and noise;

• Cultural resources;

• Socioeconomics;

• Reliability and safety; and

• Cumulative environmental impacts.

In the EIS, we will also evaluate possible alternatives to the proposed project or portions of the project, and make recommendations on how to lessen or avoid impacts on affected resources.

Our independent analysis of the issues will be included in a draft EIS. The draft EIS will be mailed to Federal, State, and local government agencies; elected officials; environmental and public interest groups; Native American tribes; affected landowners; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this notice.

Although no formal application has been filed, the FERC staff has already initiated its NEPA review under the Commission's Pre-filing Process. The purpose of the Pre-filing Process is to encourage the early involvement of interested stakeholders and to identify and resolve issues before an application is filed with the FERC.

With this notice, we are asking Federal, State, and local governmental agencies with jurisdiction and/or special expertise with respect to environmental issues, especially those identified in Appendix 2, to express their interest in becoming cooperating agencies for the preparation of the EIS. These agencies may choose to participate once they have evaluated the proposal relative to their responsibilities. Agencies that would like to request cooperating status should follow the instructions for filing comments provided in Appendix 2.

Currently Identified Environmental Issues

The EIS will discuss impacts that could occur as a result of the construction and operation of the proposed project. We have already identified several issues that we think deserve attention based on a preliminary review of the project site and the facility information provided by Boardwalk. This preliminary list of issues may be changed based on your comments and our analysis.

• Potential effects on prime farmland and erodable soils.

• Potential impacts to perennial and intermittent waterbodies, including waterbodies with federal and/or state designations/protections.

• Evaluation of temporary and permanent impacts on wetlands and development of appropriate mitigation.

• Potential impacts to fish and wildlife habitat, including potential impacts to federally and state-listed threatened and endangered species.

• Potential visual effects of the aboveground facilities on surrounding areas.

• Potential impacts and potential benefits of construction workforce on local housing, infrastructure, public services, and economy.

• Impacts to air quality and noise associated with construction and operation.

• Public safety and hazards associated with the transport of natural gas.

• Alternative alignments for the pipeline route and alternative sites for the compressor stations.

• Potential impacts to Native American lands and cultural resources.

• Land use impacts from pipeline easements.

Public Participation

You can make a difference by providing us with your specific comments or concerns about the proposed project. By becoming a commentor, your concerns will be addressed in the EIS and considered by the Commission. Your comments should focus on the potential environmental effects, reasonable alternatives (including alternative facility sites and pipeline routes), and measures to avoid or lessen environmental impact. The more specific your comments, the more useful they will be. To ensure that your comments are timely and properly recorded, please carefully follow these instructions:

• Send an original and two copies of your letter to: Philis J. Posey, Acting Secretary, Federal Energy Regulatory Commission, 888 First St., NE., Room 1A, Washington, DC 20426.

• Label one copy of your comments for the attention of Gas Branch 3, DG2E.

• Reference Docket No. PF07-1-000 on the original and both copies.

• Mail your comments so that they will be received in Washington, DC on or before May 4, 2007.

Please note that we are continuing to experience delays in mail deliveries from the U.S. Postal Service. As a result, we will include all comments that we receive within a reasonable time frame in our environmental analysis of this project. The Commission strongly encourages electronic filing of any comments in response to this Notice of Intent. For information on electronically filing comments, please see the instructions on the Commission's Web site at http://www.ferc.gov.

The public scoping meetings are designed to provide another opportunity to offer comments on the proposed project. Interested groups and individuals are encouraged to attend the meetings and to present comments on the environmental issues they believe should be addressed in the EIS. A transcript of each meeting will be generated so that your comments will be accurately recorded.

Once Broadwater formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

If you received this notice, you are on the environmental mailing list for this project. If you do not want to send comments at this time, but still want to remain on our mailing list, please return the Information Request (Appendix 3). If you do not return the Information Request, you will be removed from the Commission's environmental mailing list.

Availability of Additional Information

Additional information about the project is available from the Commission's Office of External Affairs, at 1-866-208-FERC (3372). Additional information can also be found on the Internet at http://www.ferc.gov. The “eLibrary link” on the FERC Web site provides access to documents submitted to and issued by the Commission, such as comments, orders, notices and rulemakings. Once on the FERC Web site, click on the “eLibrary link,” select “General Search” and in the “Docket Number” field enter the project docket number excluding the last three digits (PF07-1). When researching information be sure to select an appropriate date range. In addition, the FERC now offers a free e-mail service called eSubscription that allows you to keep track of all formal issuances and submittals in specific dockets. This can reduce the amount of time you spend researching proceedings by automatically providing you with notification of these filings, document summaries and direct links to the documents. To register for this service, go to http://www.ferc.gov/esubscribenow.htm.

Public meetings or site visits will be posted on the Commission's calendar located at http://www.ferc.gov/EventCalendar/EventsList.aspx along with other related information.

For assistance with the FERC Web site or with eSubscription, please contact FERC Online Support at FERCOnlineSupport@ferc.gov or toll free at 1-866-208-3676, or TTY, contact 1-202-502-8659.

Finally, Boardwalk has established an Internet Web site for this project at http://www.gulfcrossing.com. The website includes a description of the project, a map of the proposed pipeline route, and answers to frequently asked questions. You can also request additional information or provide comments directly to Boardwalk at 1-713-544-5420.

Philis J. Posey,
Acting Secretary.

[FR Doc. E7-6443 Filed 4-5-07; 8:45 am]

BILLING CODE 6717-01-P